DEPARTMENT OF THE TREASURY

Internal Revenue Service

Privacy Act of 1974, as Amended

AGENCY: Internal Revenue Service, Treasury.

ACTION: Notice of proposed alterations to three Privacy Act systems of records.

SUMMARY: In accordance with the requirements of the Privacy Act of 1974, as amended, the Department of the Treasury, Internal Revenue Service (IRS), gives notice of proposed alternations to three Privacy Act systems of records related to the functions of the Office of Professional Responsibility (OPR): Treasury/IRS 37.006—General Correspondence File; Treasury/IRS 37.007—Inventory; and Treasury/IRS 37.009—Enrolled Agents and Resigned Enrolled Agents (Action pursuant to 31 CFR 10.55(b)).

DATES: Comments must be received no later than January 2, 2007. The proposed altered systems will become effective January 10, 2007, unless the IRS receives comments which cause reconsideration of this action.

ADDRESSES: Comments should be sent to the Office of Governmental Liaison and Disclosure, IRS, 1111 Constitution Avenue, NW., Washington, DC 20224. To arrange to see the comments, see FOR FURTHER INFORMATION CONTACT below.

FOR FURTHER INFORMATION CONTACT: Earl Prater, Senior Counsel, OPR, at (202) 874-5936, or for voice mail, (202) 622-8018 (not toll free numbers).

SUPPLEMENTARY INFORMATION: The regulations governing practice before the IRS, issued under the authority of 31 U.S.C. 330, are set out at 31 CFR part 10, and are published in pamphlet form as Treasury Department Circular No. 230. As authorized by 31 CFR part 10, the Director, OPR (formerly Office of Director of Practice), acts on applications for enrollment to practice before the IRS; makes inquiries with respect to matters under OPR's jurisdiction; institutes and provides for the conduct of disciplinary proceedings relating to attorneys, certified public accountants, enrolled agents, enrolled actuaries, and appraisers; and performs other duties as are necessary or appropriate to carry out OPR's functions under 31 CFR part 10 or as prescribed by the Secretary of the Treasury or delegate.

The IRS currently maintains 11 Privacy Act systems of records related to the functions of OPR. Notices describing these systems of records were most recently published at 66 FR 63826, December 10, 2001. As described below, the IRS proposes to consolidate the 11 current systems into 3 altered systems.

(1) Treasury/IRS 37.006—General Correspondence File

The following alterations to this system of records are proposed:

(a) To change the title of the system to “Correspondence, Miscellaneous Records, and Information Management Records”;

(b) To make necessary additions to Categories of Individuals Covered by the System, Categories of Records in the System, Purpose(s), and Record Source Categories;

(c) To restate, for clarity and for consistency of phrasing with other IRS system of records notices, routine uses authorizing disclosure to public authorities for law enforcement purposes; disclosure to public authorities requesting information relevant to hiring, contracting, licensing, and other matters; disclosure during litigation; and disclosure to contractors;

(d) To add a routine use authorizing disclosure to the Department of Justice (DOJ) for the purpose of seeking legal advice;

(e) To delete an unnecessary routine use authorizing disclosure to congressional offices in response to inquiries from constituents, who authorize disclosure by consent;

(f) To delete, as inappropriate for this altered system of records, routine uses authorizing disclosure to third parties during an investigation and authorizing disclosure to the news media; and

(g) To make necessary “housekeeping” alterations, such as changing “Office of Director of Practice” to “Office of Professional Responsibility,” updating addresses, and revising citations to 31 CFR part 10 and the Internal Revenue Manual.

(2) Treasury/IRS 37.007—Inventory

The following alterations to this system of records are proposed:

(a) To change the title of the system to “Practitioner Disciplinary Records”;

(b) To consolidate in this system of records all disciplinary-related records from this system and from the following systems—

Treasury/IRS 37.003—Closed Files Containing Derogatory Information About Individuals' Practice Before the Internal Revenue Service and Files of Attorneys and Certified Public Accountants Formerly Enrolled to Practice

Treasury/IRS 37.004—Derogatory Information (No Action)

Treasury/IRS 37.005—Present Suspensions and Disbarments Resulting from Administrative Proceeding Treasury/IRS 37.008—Register of Docketed Cases and Applicant Appeals Treasury/IRS 37.009—Enrolled Agents and Resigned Enrolled Agents (Action pursuant to 31 CFR 10.55(b)) Treasury/IRS 37.011—Present Suspensions from Practice before the Internal Revenue Service;

(c) To make necessary additions to Categories of Individuals Covered by the System, Categories of Records in the System, Purpose(s), Retrievability, and Record Source Categories;

(d) To restate, for clarity and for consistency of phrasing with other IRS system of records notices, routine uses authorizing disclosure to public authorities for law enforcement purposes; disclosure to public authorities requesting information relevant to hiring, contracting, licensing, and other matters; disclosure during litigation; disclosure to contractors; and disclosure to third parties during an investigation;

(e) To incorporate a routine use from Treasury/IRS 37.005 that authorizes disclosure of information regarding suspensions or disbarments to professional organizations, to state that professional organizations and associations receiving disclosures may be public, quasi-public, or private, and to restate the routine use for clarity;

(f) To incorporate a routine use from Treasury/IRS 37.005, 37.009, and 37.011 that authorizes disclosure of the roster of persons censured, suspended, or disbarred and the roster of disqualified appraisers, to include in the routine use information about individuals who have been denied eligibility to engage in limited practice, and to restate the routine use for clarity;

(g) To add a routine use authorizing disclosure to the DOJ for the purpose of seeking legal advice;

(h) To add a routine use authorizing, to the extend permitted under 31 CFR part 10, disclosure to the public of pleadings filed with the administrative law judge (ALJ), evidence received by the ALJ, reports and decisions of the ALJ in disciplinary proceedings under those regulations, and pleadings to, and decisions by, the Secretary of the Treasury on review of ALJ decisions;

(i) To add a routine use authorizing disclosure to the public of the name, mailing address, and other information concerning individuals who have been enjoined by the Federal courts from representing taxpayers before the IRS;

(j) To add a routine use authorizing disclosure of limited information concerning the status of disciplinary investigations to individuals who send OPR information concerning possible violations of the regulations governing practice before the IRS;

(k) To add a routine use authorizing disclosure to the Office of Personnel Management (OPM) of the identify and status of disciplinary cases in order for OPM to process requests for assignment of ALJs to conduct disciplinary proceedings;

(l) To delete an unnecessary routine use authorizing disclosure to congressional offices in response to inquiries from constituents, who authorize disclosure by consent;

(m) To delete, as redundant to proposed routine uses broadening public access to disciplinary proceedings and sanctions, a routine use authorizing disclosure to the news media; and

(n) To make necessary “housekeeping” alterations, such as changing “Office of Director of Practice” to “Office of Professional Responsibility,” updating addresses, and revising citations to 31 CFR part 10 and the Internal Revenue Manual.

(3) Treasury/IRS 37.009—Enrolled Agents and Resigned Enrolled Agents (Action pursuant to 31 CFR 10.55(b))

The following alterations to this system of records are proposed:

(a) To change the title of the system to “Enrolled Agent Records”;

(b) To consolidate in this system of records all enrollment-related records from this system and from the following systems—

Treasury/IRS 37.001—Abandoned Enrollment Applications

Treasury/IRS 37.002—Files Containing Derogatory Information about Individuals Whose Applications for Enrollment to Practice Before the IRS Have Been Denied and Applicant Appeal Files [formerly known as “Applicant Appeal Files”]

Treasury/IRS 37.003—Closed Files Containing Derogatory Information About Individuals' Practice Before the Internal Revenue Service and Files of Attorneys and Certified Public Accountants Formerly Enrolled to Practice

Treasury/IRS 37.007—Inventory

Treasury/IRS 37.008—Register of Docketed Cases and Applicant Appeals

Treasury/IRS 37.010—Roster of Former Enrollees;

(c) To make necessary additions to Categories of Individuals Covered by the System, Categories of Records in the System, Purpose(s), Retrievability, and Record Source Categories;

(d) To restate, for clarity and for consistency of phrasing with other IRS system of records notices, routine uses authorizing disclosure to public authorities for law enforcement purposes; disclosure to public authorities requesting information relevant to hiring, contracting, licensing, and other matters; disclosure during litigation; disclosure to contractors; and disclosure to third parties during an investigation;

(e) To restate, for clarity, a routine use that authorizes disclosure of information (including addresses) sufficient to identify all persons enrolled to practice before the IRS and to include in the routine use information about individuals who have been terminated as enrolled agents for failure to meet the requirements for renewal of enrollment or who have resigned as enrolled agents for reasons other than in lieu of a disciplinary proceeding being instituted or continued;

(f) To add a routine use authorizing disclosure to the DOJ for the purpose of seeking legal advice;

(g) To add a routine use authorizing disclosure to a public, quasi-public, or private professional organization or association which individuals covered by this system of records may be affiliated with, or subject to the jurisdiction of, to meet their responsibilities in connection with the administration and maintenance of standards of conduct and discipline;

(h) To delete an unnecessary routine use authorizing disclosure to congressional offices in response to inquiries from constituents, who authorize disclosure by consent;

(i) To delete, as redundant to a proposed routine use authorizing public disclosure of information identifying enrolled agents, a routine use authorizing disclosure to the news media; and

(j) To make necessary “housekeeping” alterations, such as changing “Office of Director of Practice” to “Office of Professional Responsibility,” updating addresses, and revising citations to 31 CFR part 10 and the Internal Revenue Manual.

The following systems of records will be deleted upon implementation of the altered systems:

Treasury/IRS 37.001—Abandoned Enrollment Applications

Treasury/IRS 37.002—Files Containing Derogatory Information about Individuals Whose Applications for Enrollment to Practice Before the IRS Have Been Denied and Applicant Appeal Files [formerly known as “Applicant Appeal Files”]

Treasury/IRS 37.003—Closed Files Containing Derogatory Information About Individuals' Practice Before the Internal Revenue Service and Files of Attorneys and Certified Public Accountants Formerly Enrolled to Practice

Treasury/IRS 37.004—Derogatory Information (No Action)

Treasury/IRS 37.005—Present Suspensions and Disbarments Resulting from Administrative Proceeding

Treasury/IRS 37.008—Register of Docketed Cases and Applicant Appeals

Treasury/IRS 37.010—Roster of Former Enrollees

Treasury/IRS 37.011—Present Suspensions from Practice before the Internal Revenue Service.

The report of the altered systems of records, as required by 5 U.S.C. 552a(r) of the Privacy Act, has been submitted to the Committee on Government Reform of the House of Representatives, the Committee on Homeland Security and Governmental Affairs of the Senate, and the Office of Management and Budget (OMB), pursuant to Appendix I to OMB Circular A-130, “Federal Agency Responsibilities for Maintaining Records About Individuals,” dated November 30, 2000.

The three proposed altered systems of records, described above, are published in their entirety below.

Dated: October 24, 2006.
Sandra L. Pack,
Assistant Secretary for Management and Chief Financial Officer.

Treasury/IRS 37.006

System name:

Correspondence, Miscellaneous Records, and Information Management Records—Treasury/IRS.

System location:

Office of Professional Responsibility (OPR), Internal Revenue Service (IRS), Washington, DC; Detroit Computing Center, Detroit, Michigan.

Categories of individuals covered by the system:

Individuals who correspond with OPR, individuals on whose behalf correspondence is initiated, and individuals who are the subject of correspondence; individuals who apply, pursuant to 31 CFR part 10, for recognition as a qualified sponsor of continuing professional education for enrolled agents; individuals who apply, pursuant to 31 CFR part 10, for authorization to make a special appearance before the IRS to represent another person in a particular matter; former Government employees who must file, pursuant to 31 CFR part 10, a statement that their current employer has isolated them from representations that would constitute a post-employment conflict of interest; individuals who appeal from determinations that they are ineligible to engage in limited practice before the IRS under 31 CFR part 10; and individuals who serve as point of contact for organizations (including organizations that apply for recognition as a sponsor of continuing professional education for enrolled agents and tax clinics that request OPR to issue special orders authorizing tax clinic personnel to practice before the IRS).

Categories of records in the system:

Correspondence (including, but not limited to, letters, faxes, telegrams, and e-mails) sent and received; mailing lists of, and responses to, quality and improvement surveys of individuals; applications for recognition as a qualified sponsor of continuing professional education; applications for authorization to make a special appearance before the IRS; statements of isolation from representations that would constitute a post-employment conflict of interest; appeals from determinations of ineligibility to engage in limited practice; records pertaining to consideration of these matters; and workload management records.

Authority for maintenance of the system:

5 U.S.C. 301; 26 U.S.C. 7801; 31 U.S.C. 330, as amended by Section 822 of the American Jobs Creation Act of 2004.

Purpose(s):

To permit OPR to manage correspondence, to track responses from quality and improvement surveys, to manage workloads, and to collect and maintain other administrative records that are necessary for OPR to perform its functions under the regulations governing practice before the IRS, which are set out at 31 CFR part 10 and are published in pamphlet form as Treasury Department Circular No. 230, and its functions under other grants of authority.

Routine uses of records maintained in the system, including categories of users and the purposes of such uses:

Disclosure of returns and return information may be made only as provided by 26 U.S.C. 6103. All other records may be used as described below if the IRS deems the purpose of the disclosure to be compatible with the purpose for which the IRS collected the records and no privilege is asserted:

(1) Disclose information to a Federal, state, local, tribal, or foreign agency or other public authority responsible for implementing or enforcing, or for investigating or prosecuting, the violation of a statute, rule, regulation, order, or license when a record on its face, or in conjunction with other records, indicates a violation or potential violation of law or regulation and the information disclosed is relevant to any regulatory, enforcement, investigative, or prosecutorial responsibility of the receiving authority.

(2) Disclose information to a Federal, state, local, tribal, or foreign agency, or other public authority, which has requested information relevant or necessary to hiring or retaining an employee or to issuing, or continuing, a contract, security clearance, license, grant, or other benefit.

(3) Disclose information during a proceeding before a court, administrative tribunal, or other adjudicative body when: (a) The IRS or any component thereof; (b) any IRS employee in his or her official capacity; (c) any IRS employee in his or her individual capacity if the IRS or the Department of Justice (DOJ) has agreed to provide representation for the employee; or (d) the United States is a party to, has an interest in, or is likely to be affected by, the proceeding; and the IRS or the DOJ determines that the information is relevant and necessary to the proceeding. Information may be disclosed to the adjudicative body to resolve issues of relevancy, necessity, or privilege pertaining to the information.

(4) Disclose information to the DOJ when seeking legal advice or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by, the proceeding; and the IRS or the DOJ determines that the information is relevant and necessary to the proceeding or advice sought.

(5) Disclose information to a contractor to the extent necessary to perform the contract.

Policies and practices for storing, retrieving, accessing, retaining, and disposing of records in the system:

Storage:

Paper and electronic media.

Retrievability:

By individual's name. Non-unique names will be distinguished by addresses.

Safeguards:

Access controls are not less than those provided for by IRM 25.10.1, Information Technology (IT) Security Policy and Standards, and IRM 1.16, Physical Security Program.

Retention and disposal:

Records are retained and disposed of in accordance with the records control schedules applicable to the records of OPR, IRM 1.15.11.

System manager and address:

Director, Office of Professional Responsibility, SE:OPR, 1111 Constitution Avenue, NW., Washington, DC 22024.

Notification procedure:

Individuals seeking to determine if this system of records contains a record pertaining to themselves may inquire in accordance with instructions appearing at 31 CFR part 1, Subpart C, Appendix B. Inquiries should be addressed to the system manager listed above.

Record access procedures:

Individuals seeking access to any record contained in this system, or seeking to contest its content, should inquire in accordance with instructions appearing at 31 CFR part 1, Subpart C, Appendix B. The request should be addressed to the system manager listed above.

Contesting record procedures:

See “Record Access Procedures” above.

Record source categories:

Individuals, other correspondents, and Treasury Department records.

Exemptions claimed for the system:

None.

Treasury/IRS 37.007

System name:

Practitioner Disciplinary Records—Treasury/IRS.

System location:

Office of Professional Responsibility (OPR), Internal Revenue Service (IRS), Washington, DC.

Categories of individuals covered by the system:

Subjects and potential subjects of disciplinary proceedings relating to attorneys, certified public accountants, enrolled agents, enrolled actuaries, and appraisers; subjects or potential subjects of actions to deny eligibility to engage in limited practice before the IRS or actions to withdraw eligibility to practice before the IRS in any other capacity; and individuals who have received disciplinary sanctions or whose eligibility to practice before the IRS has been denied or withdrawn.

Categories of records in the system:

Information sent to, or collected by, OPR concerning potential violations of the regulations governing practice before the IRS, including disciplinary decisions and orders (and related records) of Federal or state courts, agencies, bodies, and other licensing authorities; records pertaining to OPR's investigation and evaluation of such information; records of disciplinary proceedings brought by OPR before administrative law judges (ALJs), including records of appeals from decisions in such proceedings; petitions for reinstatement to practice before the IRS (and related records); Federal court orders enjoining individuals from representing taxpayers before the IRS; and press releases concerning such injunctions.

Authority for maintenance of the system:

5 U.S.C. 301; 26 U.S.C. 7801; 31 U.S.C. 330, as amended by Section 822 of the American Jobs Creation Act of 2004.

Purpose(s):

To enforce and administer the regulations governing practice before the IRS, which are set out at 31 CFR part 10 and are published in pamphlet form as Treasury Department Circular No. 230; to make available to the general public information about disciplinary proceedings and disciplinary sanctions; and to assist professional organizations and associations and other law enforcement and regulatory authorities in the performance of their duties in connection with the administration and maintenance of standards of conduct and discipline.

Routine uses of records maintained in the system, including categories of users and the purposes of such uses:

Disclosure of returns and return information may be made only as provided by 26 U.S.C. 6103. All other records may be used as described below if the IRS deems the purpose of the disclosure to be compatible with the purpose for which the IRS collected the records and no privilege is asserted:

(1) Disclose information to a Federal, state, local, tribal, or foreign agency or other public authority responsible for implementing or enforcing, or for investigating or prosecuting, the violation of a statute, rule, regulation, order, or license when a record on its face, or in conjunction with other records, indicates a violation or potential violation of law or regulation and the information disclosed is relevant to any regulatory, enforcement, investigative, or prosecutorial responsibility of the receiving authority.

(2) Disclose information to a Federal, state, local, tribal, or foreign agency, or other public authority, which has requested information relevant or necessary to hiring or retaining an employee or to issuing, or continuing, a contract, security clearance, license, grant, or other benefit.

(3) Disclose information during a proceeding before a court, administrative tribunal, or other adjudicative body when: (a) The IRS or any component thereof; (b) any IRS employee in his or her official capacity; (c) any IRS employee in his or her individual capacity if the IRS or the Department of Justice (DOJ) has agreed to provide representation for the employee; or (d) the United States is a party to, has an interest in, or is likely to be affected by, the proceeding; and the IRS or the DOJ determines that the information is relevant and necessary to the proceeding. Information may be disclosed to the adjudicative body to resolve issues of relevancy, necessity, or privilege pertaining to the information.

(4) Disclose information to the DOJ when seeking legal advice or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by, the proceeding; and the IRS or the DOJ determines that the information is relevant and necessary to the proceeding or advice sought.

(5) Disclose information to a contractor to the extent necessary to perform the contract.

(6) Disclose information to third parties during the course of an investigation to the extent deemed necessary by the IRS to obtain information pertinent to the investigation.

(7) To the extent permitted under 31 CFR part 10, disclose to the public pleadings filed with the ALJ, evidence received by the ALJ, reports and decisions of the ALJ in a disciplinary proceeding under those regulations, and pleadings to, and decisions by, the Secretary of the Treasury or delegate on review of ALJ decisions.

(8) Make available for public inspection or otherwise disclose to the general public, after the subject individual has exhausted appeal rights: (1) The name, mailing address, professional designation (attorney, certified public accountant, enrolled agent, enrolled actuary, or appraiser), type of disciplinary sanction, effective dates, and information about the conduct that gave rise to the sanction pertaining to individuals who have been censured, individuals who have been suspended or disbarred from practice before the IRS, individuals who have resigned as an enrolled agent in lieu of a disciplinary proceeding being instituted or continued, individuals upon whom a monetary penalty has been imposed, and individual appraisers who have been disqualified; and (2) the name, mailing address, representative capacity (family member; general partner; full-time employee or officer of a corporation, association, or organized group; full-time employee of a trust, receivership, guardianship, or estate; officer or regular employee of a government unit; an individual representing a taxpayer outside the United States; or unenrolled return preparer), the fact of the denial of eligibility for limited practice, effective dates, and information about the conduct that gave rise to the denial pertaining to individuals who have been denied eligibility to engage in limited practice before the IRS pursuant to 31 CFR part 10.

(9) Make available for public inspection or otherwise disclose to the general public: the name, mailing address, professional designation or representative capacity, the fact of being enjoined from representing taxpayers before the IRS, the scope of the injunction, effective dates, and information about the conduct that gave rise to the injunction pertaining to individuals who have been enjoined by any Federal court from representing taxpayers before the IRS.

(10) Disclose information to a public, quasi-public, or private professional organization or association which individuals covered by this system of records may be affiliated with, or subject to the jurisdiction of, including but not limited to disciplinary authorities of state bars or certified public accountancy boards, to meet their responsibilities in connection with the administration and maintenance of standards of conduct and discipline.

(11) Disclose upon written request to a member of the public who has submitted to OPR written information concerning potential violations of the regulations governing practice before the IRS: (1) That OPR is currently investigating or evaluating the information; or (2) that OPR has determined that no action will be taken, because jurisdiction is lacking, because a disciplinary proceeding would be time-barred, or because the information does not constitute actionable violations of the regulations; and (3) if applicable, the name of the agency or authority or Department of the Treasury or IRS office to which OPR has referred the information.

(12) Disclose to the Office of Personnel Management (OPM) the identity and status of disciplinary cases in order for OPM to process requests for assignment of ALJs employed by other Federal agencies to conduct disciplinary proceedings.

Policies and practices for storing, retrieving, accessing, retaining, and disposing of records in the system:

Storage:

Paper and electronic media.

Retrievability:

By individual's name, social security number (when available), or complaint number pertaining to a disciplinary proceeding. Non-unique names will be distinguished by addresses.

Safeguards:

Access controls will not be less than those provided for by IRM 25.10.1, Information Technology (IT) Security Policy and Standards, and IRM 1.16, Physical Security Program.

Retention and disposal:

Records are retained and disposed of in accordance with the records control schedules applicable to the records of OPR, IRM 1.15.11.

System manager and address:

Director, Office of Professional Responsibility, SE:OPR, 1111 Constitution Avenue, NW., Washington, DC 22024.

Notification procedure:

This system of records is exempt from the notification provisions of the Privacy Act.

Record access procedures:

This system of records is exempt from the record access provisions of the Privacy Act.

Contesting record procedures:

26 U.S.C. 7852(e) prohibits Privacy Act amendment of tax records. For any other records, this system of records is exempt from the record contesting provisions of the Privacy Act.

Record source categories:

Individuals covered by this system of records; witnesses; Federal or state courts, agencies, bodies, and other licensing authorities; professional organizations and associations; Treasury Department records; and public records.

Exemptions claimed for the system:

Pursuant to section (k)(2) of the Privacy Act, 5 U.S.C. 552a(k)(2), the records contained within this system are exempt from the following sections of the Act: (c)(3), (d), (e)(1), (e)(4)(G), (e)(4)(H), (e)(4)(I), and (f). See 31 CFR 1.36.

Treasury/IRS 37.009

System name:

Enrolled Agent Records—Treasury/IRS.

System location:

Office of Professional Responsibility (OPR), Internal Revenue Service (IRS), Washington, DC; Detroit Computing Center, Detroit, Michigan.

Categories of individuals covered by the system:

Individuals currently or formerly enrolled to practice before the IRS; applicants for enrollment to practice before the IRS, including those who have appealed denial of applications for enrollment; and candidates for enrollment examinations.

Categories of records in the system:

Applications for enrollment to practice before the IRS; records pertaining to OPR's investigation and evaluation of eligibility for enrollment; appeals from denials of applications for enrollment (and related records); records relating to enrollment examinations, including candidate applications, answer sheets, and examination scores; applications for renewal of enrollment, including information on continuing professional education; and administrative records pertaining to enrollment status, including current status, dates of enrollment, dates of renewal, and dates of resignation or termination.

Authority for maintenance of the system:

5 U.S.C. 301; 26 U.S.C. 7801; 31 U.S.C. 330, as amended by Section 822 of the American Jobs Creation Act of 2004.

Purpose(s):

To administer the enrolled agent program under the regulations governing practice before the IRS, which are set out at 31 CFR part 10 and are published in pamphlet form as Treasury Department Circular No. 230; to make available to the general public sufficient information to identify all individuals enrolled, or formerly enrolled, to practice before the IRS and the status of their enrollment; and to assist professional organizations and associations and other law enforcement and regulatory authorities in the performance of their duties in connection with the administration and maintenance of standards of conduct and discipline.

Routine uses of records maintained in the system, including categories of users and the purposes of such uses:

Disclosure of returns and return information may be made only as provided by 26 U.S.C. 6103. All other records may be used as described below if the IRS deems the purpose of the disclosure to be compatible with the purpose for which the IRS collected the records and no privilege is asserted:

(1) Disclose information to a Federal, state, local, tribal, or foreign agency or other public authority responsible for implementing or enforcing, or for investigating or prosecuting, the violation of a statute, rule, regulation, order, or license when a record on its face, or in conjunction with other records, indicates a violation or potential violation of law or regulation and the information disclosed is relevant to any regulatory, enforcement, investigative, or prosecutorial responsibility of the receiving authority.

(2) Disclose information to a Federal, state, local, tribal, or foreign agency, or other public authority, which has requested information relevant or necessary to hiring or retaining an employee or to issuing, or continuing, a contract, security clearance, license, grant, or other benefit.

(3) Disclose information during a proceeding before a court, administrative tribunal, or other adjudicative body when: (a) The IRS or any component thereof; (b) any IRS employee in his or her official capacity; (c) any IRS employee in his or her individual capacity if the IRS or the Department of Justice (DOJ) has agreed to provide representation for the employee; or (d) the United States is a party to, has an interest in, or is likely to be affected by, the proceeding; and the IRS or the DOJ determines that the information is relevant and necessary to the proceeding. Information may be disclosed to the adjudicative body to resolve issues of relevancy, necessity, or privilege pertaining to the information.

(4) Disclose information to the DOJ when seeking legal advice or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by, the proceeding; and the IRS or the DOJ determines that the information is relevant and necessary to the proceeding or advice sought.

(5) Disclose information to a contractor to the extent necessary to perform the contract.

(6) Disclose information to third parties during the course of an investigation to the extent deemed necessary by the IRS to obtain information pertinent to the investigation.

(7) Make available for public inspection or otherwise disclose to the general public: the name; mailing address; enrollment status (active, inactive, inactive retired, terminated for failure to meet the requirements for renewal of enrollment, or resigned for reasons other than in lieu of a disciplinary proceeding being instituted or continued); and effective dates pertaining to individuals who are, or were, enrolled to practice before the IRS.

(8) Disclose information to a public, quasi-public, or private professional organization or association which individuals covered by this system of records may be affiliated with, or subject to the jurisdiction of, including but not limited to disciplinary authorities of state bars or certified public accountancy boards, to meet their responsibilities in connection with the administration and maintenance of standards of conduct and discipline.

Policies and practices for storing, retrieving, accessing, retaining, and disposing of records in the system:

Storage:

Paper and electronic media.

Retrievability:

By individual's name (including other names used); social security number (when available); enrollment examination candidate number, enrollment application control number, enrollment number, or street address. Non-unique names will be distinguished by addresses.

Safeguards:

Access controls will not be less than those provided for by IRM 25.10.1, Information Technology (IT) Security Policy and Standards, and IRM 1.16, Physical Security Program.

Retention and disposal:

Records are retained and disposed of in accordance with the records control schedules applicable to the records of OPR, IRM 1.15.11.

System manager and address:

Director, Office of Professional Responsibility, SE:OPR, 1111 Constitution Avenue, NW., Washington, DC 22024.

Notification procedure:

This system of records is exempt from the notification provisions of the Privacy Act.

Record access procedures:

This system of records is exempt from the record access provisions of the Privacy Act.

Contesting record procedures:

26 U.S.C. 7852(e) prohibits Privacy Act amendment of tax records. For any other records, this system of records is exempt from the record contesting provisions of the Privacy Act.

Record source categories:

Individuals covered by this system of records; witnesses; Federal or state courts, agencies, bodies, and other licensing authorities; professional organizations and associations; Treasury Department records; and public records.

Exemptions claimed for the system:

Pursuant to section (k)(2) of the Privacy Act, 5 U.S.C. 552a(k)(2), the records contained within this system are exempt from the following sections of the Act: (c)(3), (d), (e)(1), (e)(4)(G), (e)(4)(H), (e)(4)(I), and (f). See 31 CFR 1.36.

[FR Doc. E6-20372 Filed 11-30-06; 8:45 am]

BILLING CODE 4830-01-P